NATIONAL TRANSPORTATION SAFETY BOARD

Sunshine Act Meeting

TIME AND PLACE: 9:30 a.m., Tuesday, May 1, 2001.

PLACE: NTSB Conference Center, 429 L'Enfant Plaza SW., Washington, DC 20594.

STATUS: The three items are open to the public.

MATTERS TO BE CONSIDERED: 7357 Fire On Board Liberian Passenger Ship Ecstasy, Miama, Florida, July 20, 1998 (DCA-98-MM-035).

7356 Special Investigation Report: Rear-End Collision Prevention Technologies.

7339A Railroad Accident Report: Collision Involving Three Consolidated Rail Corporation Freight Trains Operating in Fog at Bryan, Ohio, January 17, 1999 (DCA-99-MR-002)—Positive Train Separation Issues.

NEWS MEDIA CONTACT: Telephone: (202) 314-6100.

Individuals requesting specific accommodation should contact Mrs. Barbara Bush at (202) 314-6220 by Friday, April 27, 2001.

FOR MORE INFORMATION CONTACT: Vicky D'Onofrio, (202) 314-6065.

Dated: March 23, 2001.
Vicky D'Onofrio,
Federal Register Liaison Officer.

[FR Doc. 01-10286 Filed 4-20-01; 2:33 pm]

BILLING CODE 7533-01-P